DEPARTMENT OF TRANSPORTATION

Federal Motor Carrier Safety Administration

[Docket No. FMCSA-2024-0253]

Entry-Level Driver Training: Application for Exemption; Albert Farley, Jr.

AGENCY: Federal Motor Carrier Safety Administration (FMCSA), DOT.

ACTION: Notice of final disposition; denial of application for exemption.

SUMMARY: FMCSA announces its decision to deny Albert Farley, Jr.'s request for an exemption from the theory and behind-the-wheel (BTW) instructor requirements contained in the entry-level driver training (ELDT) regulations for himself as a prospective training instructor. Mr. Farley sought an exemption from the requirement that instructors have at least two years of driving experience of the same or higher class and/or the same endorsement level as the commercial motor vehicle (CMV) to be operated. This exemption would have allowed Mr. Farley to serve as an ELDT instructor for students seeking Class A CDLs without having the required two years of experience driving Class A CDLs. FMCSA analyzed the application and public comments and determined that granting the exemption would not likely achieve a level of safety that is equivalent to, or greater than, the level that would be achieved absent such exemption.

FOR FURTHER INFORMATION CONTACT: Mr. Richard Clemente, FMCSA Driver and Carrier Operations Division; Office of Carrier, Driver and Vehicle Safety Standards; 202-366-2722; richard.clemente@dot.gov.

SUPPLEMENTARY INFORMATION:

I. Public Participation

Viewing Comments and Documents

To view comments, go to www.regulations.gov, insert the docket number “FMCSA-2024-0253” in the keyword box, and click “Search.” Next, sort the results by “Posted (Newer-Older),” choose the first notice listed, and click “View Related Comments.”

To view documents mentioned in this notice as being available in the docket, go to www.regulations.gov, insert the docket number “FMCSA-2024-0253” in the keyword box, click “Search,” and chose the document to review.

If you do not have access to the internet, you may view the docket by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the safety analyses submitted by the applicant. The Agency must provide an opportunity for public comment on the request.

The Agency reviews safety analyses and public comments submitted and determines whether granting the exemption would likely achieve a level of safety equivalent to, or greater than, the level that would be achieved absent such exemption, pursuant to 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). If granted, the exemption may be renewed (49 CFR 381.300(b)).

III. Background

Current Regulatory Requirements

The ELDT regulations, implemented on February 7, 2022, established minimum training standards for individuals applying for certain commercial driver's licenses (CDLs) and defined curriculum standards for theory and behind-the-wheel (BTW) training. They also established an online training provider registry (TPR), eligibility requirements for providers to be listed on the TPR, and qualification requirements for instructors. Under 49 CFR 380.703(a)(4) and 380.713, in order to be eligible for listing on the TRP, a training provider must use instructors who meet the definitions of “theory instructors” and “BTW instructors” in 49 CFR 380.605. To meet the definitions of “theory instructor” and “BTW instructor” in 49 CFR 380.605, instructors must hold a CDL of the same (or higher) class, with all endorsements necessary to operate the CMV for which training is to be provided, and have either: (1) a minimum of two years of experience driving a CMV requiring a CDL of the same or higher class and/or the same endorsement; or (2) at least two years of experience as a BTW CMV instructor.

Applicant's Request

The exemption application was described in detail in a Federal Register notice published on December 9, 2024, (89 FR 97700) and will not be repeated here as the facts have not changed.

IV. Public Comments

In response to the request for public comment, FMCSA received one set of jointly filed comments in opposition to the exemption request from the Truck Safety Coalition, Citizens for Reliable and Safe Highways, and Parents Against Tired Truckers.

The joint commenters noted that a committee of stakeholders developed the ELDT rule to ensure all CDL applicants receive standardized training in order to improve safety outcomes. They further commented that Mr. Farley lacked experience driving logging trucks, which are widely acknowledged to be among the most challenging to operate safely. They emphasized the importance of firsthand experience operating large trucks and of training provided by verified, qualified instructors.

V. FMCSA Safety Analysis and Decision

FMCSA has evaluated Mr. Farley's application and the public comments and denies the exemption request. Based on the information provided by the applicant and commenters, the Agency is unable to determine that the exemption would likely achieve a level of safety equivalent to, or greater than, the level obtained by complying with the regulation. Mr. Farley wishes to be a BTW CMV instructor for students seeking Class A CDLs. While he has held a Class B CDL and operated Class B CMVs for many years, he does not have two years of experience operating Class A vehicles. When the Agency established the ELDT regulations, it set two years of experience driving a CMV at the same or higher class or as a BTW CMV instructor as the minimum instructor qualification standard. This determination reflected the opinion of numerous commenters to the ELDT Notice of Proposed Rulemaking, as well as the committee of industry stakeholders that established the “framework” for the ELDT regulations. The Agency firmly believes that allowing an individual instructor to provide ELDT without the required driving experience could lead to similar exemption requests on a widespread basis. Such a result would be inconsistent with a primary goal of the ELDT regulations, which was to improve highway safety by establishing a uniform Federal minimum ELDT standard.

Furthermore, in a prior December 22, 2022, Federal Register Notice [87 FR 78762] the Agency announced its decision to deny a similar exemption application request from the Western Area Career and Technology Center.

For the above reasons, the Albert Farley, Jr. exemption application is denied.

Sue Lawless,
Assistant Administrator.

[FR Doc. 2025-07249 Filed 4-25-25; 8:45 am]

BILLING CODE 4910-EX-P